DEPARTMENT OF HOMELAND SECURITY

Office of the Under Secretary for Management

Record of Decision for the Move and Occupancy of the St. Elizabeths West Campus

AGENCY: Department of Homeland Security.

ACTION: Notice of availability.

SUMMARY: Pursuant to the National Environmental Policy Act (NEPA) of 1969, the purpose of this notice is to provide the availability of the Record of Decision (ROD) of the Department of Homeland Security (DHS or Department) decision to consolidate and occupy the St. Elizabeths Campus. The ROD was prepared in accordance with DHS obligations under NEPA, the Council on Environmental Quality (CEQ) implementing regulations at 40 CFR parts 1500-1508, and DHS Management Directive 023-01 Rev 1 Implementation of the National Environmental Policy Act.

ADDRESSES: Relevant documents are posted at www.dhs.gov/nepa. These documents include: This notice and the ROD.

You may submit comments, identified by “DHS Record of Decision to consolidate and occupy the St. Elizabeths Campus,” by one of the following methods:

(1) Mail: Sustainability and Environmental Programs, Office of the Chief Readiness Support Officer, Management Directorate, Department of Homeland Security, 245 Murray Lane, Mail Stop 0075, Washington, DC 20528-0075 or

(2) Email: SEP-EPHP@hq.dhs.gov.

In choosing among these means of providing comments, please give due regard to the security screening difficulties and delays associated with delivery of mail to Federal agencies in Washington, DC, through the U.S. Postal Service.

All comments received, including any personal information provided, will become a part of the administrative record for the Department's ROD and may be posted without change on the internet at http://www.dhs.gov/nepa.

FOR FURTHER INFORMATION CONTACT: Ms. Jennifer Hass, Environmental Planning and Historic Preservation Program Manager, Department of Homeland Security 202-834-4346 or jennifer.hass@hq.dhs.gov.

SUPPLEMENTARY INFORMATION:

Background

Pursuant to 40 CFR part 1506.3, DHS Directive 023-01 Rev 01, DHS Instruction 023-01-001-01 Rev 01, DHS adopted the General Services Administration (GSA) Environmental Impact Statement (EIS) entitled Department of Homeland Security Headquarters at the St. Elizabeths West Campus To Consolidate Federal Office Space on a Secure Site Washington DC (EIS Number 20080452) and the Supplemental EIS entitled Department of Homeland Security Headquarters at the St. Elizabeths West Campus To Consolidate Federal Office Space on a Secure Site Washington DC (EIS Number 20120049) on March 30, 2016. DHS is publishing this associated ROD for DHS' commencement of occupancy of our Consolidated Headquarters campus at St. Elizabeths and as the framework for considering environmental impacts for future actions on the campus. This ROD includes a summary of the EISs that DHS adopted from the GSA as well as other relevant documents and studies, such as the GSA Master Plan for St. Elizabeths and the DHS Housing Plan. This ROD includes a statement of our decision and continued commitment to assist GSA in its mitigation measures at the campus.

Dated: November 29, 2016.
Teresa R. Pohlman,
Executive Director Sustainability and Environmental Programs.

[FR Doc. 2016-29548 Filed 12-8-16; 8:45 am]

BILLING CODE 4410-10-P